DEPARTMENT OF ENERGY

Notice of Inventions Available for License

AGENCY: Office of General Counsel, Department of Energy.

ACTION: Notice of inventions available for license.

SUMMARY: The Department of Energy hereby announces that the following patents are available for license, in accordance with 35 U.S.C. 207-209: U.S. Patent No. 6,200,816B1, entitled “Method for Measuring Particulate and Gaseous Metals in a Fluid Stream, Device for Measuring Particulate and Gaseous Metals in a Fluid Stream''; U.S. Patent No. 6,379,841, entitled “Solid State Electrochemical Current Source”. A copy of the patents may be obtained, for a modest fee, from the U.S. Patent and Trademark Office, Washington, DC 20231.

FOR FURTHER INFORMATION CONTACT: Robert J. Marchick, Office of the Assistant General Counsel for Technology Transfer and Intellectual Property, U.S. Department of Energy, 1000 Independence Ave., SW., Washington, DC 20585; Telephone (202) 586-2802.

SUPPLEMENTARY INFORMATION: 35 U.S.C. 207 authorizes licensing of Government-owned inventions. Implementing regulations are contained in 37 CFR 404.37 CFR 404.7(a)(1) authorizes exclusive licensing of Government-owned inventions under certain circumstances, provided that notice of the invention's availability for license has been announced in the Federal Register.

Issued in Washington, DC, on March 5, 2003.
Paul A. Gottlieb,
Assistant General Counsel for Technology, Transfer and Intellectual Property.

[FR Doc. 03-5735 Filed 3-10-03; 8:45 am]

BILLING CODE 6450-01-P